DEPARTMENT OF VETERANS AFFAIRS

[OMB Control No. 2900-NEW]

Proposed Information Collection (Center for Verification and Evaluation [CVE] Site Inspection) Activity: Comment Request

AGENCY: Office of Small and Disadvantaged Business Utilization (OSDBU), The Department of Veterans Affairs (VA).

ACTION: Notice.

SUMMARY: VA OSDBU, is announcing an opportunity for public comment on the proposed collection of certain information by the agency. Under the Paperwork Reduction Act (PRA) of 1995, Federal agencies are required to publish notice in the Federal Register concerning each proposed new collection of information, including each extension of a currently approved collection and allow 60 days for public comment in response to the notice. This notice solicits comments on information needed to determine the effectiveness of the site inspections that are part of the CVE Verification Program/Risk Mitigation, and to learn about the participants' experiences and satisfaction levels.

DATES: Written comments and recommendations on the proposed collection of information should be received on or before October 28, 2014.

ADDRESSES: Submit written comments on the collection of information through Federal Docket Management System (FDMS) at www.Regulations.gov or to Milagros Ortiz, OSDBU, 00SB or email to: milagros.ortiz@va.gov. Please refer to “OMB Control No. 2900-NEW (CVE Site Inspection)” in any correspondence. During the comment period, comments may be viewed online through FDMS.

FOR FURTHER INFORMATION CONTACT: Milagros Ortiz at (202) 461-4279 or Fax (202) 461-4301.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, OMB invites comments on: (1) Whether the proposed collection of information is necessary for the proper performance of OMB's functions, including whether the information will have practical utility; (2) the accuracy of OMB's estimate of the burden of the proposed collection of information; (3) ways to enhance the quality, utility, and clarity of the information to be collected; and (4) ways to minimize the burden of the collection of information on respondents, including through the use of automated collection techniques or the use of other forms of information technology.

Title: CVE Site Inspections.

OMB Control Number: 2900-NEW.

Type of Review: New collection.

Abstract: OSDBU and CVE protect the integrity and validity of VA's Veterans First Contracting Program by conducting a Risk Mitigation Program. This program helps to ensure that only eligible firms who meet the criteria of 38 Code of Federal Regulation (CFR) Part 74 are entered into the Vendor Information Pages (VIP) database. Service Disabled Veteran Owned Small Business (SDVOSB) and Veteran Owned Small Business (VOSB) participating of this program are either randomly selected for Post-verification Site Visit Audits or based upon risk assessment. OSDBU needs to determine the effectiveness of the site inspections that are part of the CVE Verification Program/Risk Mitigation, and to learn about the participants' experiences and satisfaction levels.

Affected Public: Service-disabled Veteran-owned small business (SDVOSB) owners and Veteran-owned small business (VOSB) owners that have gone through the verification process.

Estimated Annual Burden: 125 hours.

Estimated Average Burden per Respondent: 5 minutes.

Frequency of Response: Every other year (the verification status lasts for 2 years).

Estimated Number of Respondents: 125 per month (1,500 per year).

Dated: August 26, 2014.
By direction of the Secretary.
Crystal Rennie,
Department Clearance Officer, Department of Veterans Affairs.

[FR Doc. 2014-20596 Filed 8-28-14; 8:45 am]

BILLING CODE 8320-01-P